DEPARTMENT OF HEALTH AND HUMAN SERVICES

Centers for Medicare & Medicaid Services

42 CFR Part 433

[CMS-2327-CN]

RIN 0938-AR38

Medicaid Program; Increased Federal Medical Assistance Percentage Changes Under the Affordable Care Act of 2010; Correction

AGENCY: Centers for Medicare & Medicaid Services (CMS), HHS.

ACTION: Final rule; correction.

SUMMARY: This document corrects a typographical error that appeared in the final rule published in the April 2, 2013 Federal Register entitled “Medicaid Program; Increased Federal Medical Assistance Percentage Changes Under the Affordable Care Act of 2010.”

DATES: Effective June 3, 2013.

FOR FURTHER INFORMATION CONTACT: Annette Brewer, (410) 786-6580.

SUPPLEMENTARY INFORMATION:

I. Background

In FR Doc. 2013-07599 of April 2, 2013 (78 FR 19918), there was a typographical error that is identified and corrected in the Correction of Error section below. The provision in this correction notice is effective as if it had been included in the document published April 2, 2013. Accordingly, the correction is effective on June 3, 2013.

II. Summary of Error

In the April 2, 2013, we inadvertently made a typographical error in the reference cited in the regulations text at § 433.206(h). The text currently states, “§ 433.210(c)(6) of (c)(8),” and it should be corrected to read, “§ 433.210(c)(6) or (c)(8).”

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

The correction notice corrects a typographical error, and does not warrant an additional notice and comment period or a delay in the effective date. The typographical error was clear and the meaning of the provision remained evident; so such procedures are unnecessary. Further, correction of the typographical error will serve the public interest by reducing any potential for confusion. Therefore, we find good cause to waive requirements for proposed rulemaking and the delayed effective date. Consequently, this correction will be effective on June 3, 2013.

IV. Correction of Error

In FR Doc. 2013-07599 of April 2, 2013 (78 FR 19918), make the following correction:

On page 19947, in the 1st column; in the 1st paragraph, on line 1, the reference “§ 433.210(c)(6) of (c)(8),” should be corrected to read, “§ 433.210(c)(6) or (c)(8)”.

(Catalog of Federal Domestic Assistance Program No. 93.778, Medical Assistance Program)

Dated: May 29, 2013.
Jennifer Cannistra,
Executive Secretary to the Department, Department of Health and Human Services.

[FR Doc. 2013-13151 Filed 5-31-13; 8:45 am]

BILLING CODE 4120-01-P